DEPARTMENT OF COMMERCE

National Oceanic and Atmospheric Administration

[I.D. 070103E]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Scallop Oversight Committee in July, 2003 to consider actions affecting New England fisheries in the exclusive economic zone (EEZ). Recommendations from this group will be brought to the full Council for formal consideration and action, if appropriate.

DATES: The meetings will be held between July 22-31, 2003. See SUPPLEMENTARY INFORMATION for specific dates and times.

ADDRESSES: The meetings will be held in Warwick, RI and Revere, MA. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION: Tuesday, July 22, 2003 at 9 a.m.-Scallop Oversight Committee Meeting.

Location: Crowne Plaza Hotel, 801 Greenwich Avenue, Warwick, RI 02886; telephone: (401) 732-6000.

The Scallop Committee will review written public comments on Draft Amendment 10 and develop recommendations for final alternatives. The Plan Development Team will also report on revised TAC estimates and associated trip/day-at-sea allocations under various potential preferred and non-preferred alternatives. The committee will also consider strategies in Amendment 10 for initial 2004 alternatives without area rotation and controlled area access in effect. Other alternatives and issues related to Amendment 10 and scallop management may be discussed.

Thursday, July 31, 2003 at 9 a.m.-Scallop Oversight Committee Meeting.

Location: Four Points by Sheraton Hotel, 407 Squire Road, Revere, MA 02151; telephone: (781) 284-7200.

As a follow-up to the meeting on July 22, the Scallop Committee will finalize its recommendations for the Amendment 10 proposed action. Other alternatives and issues related to Amendment 10 and scallop management may be discussed and recommendations of the Committee will be presented at the Council meeting on August 14 in Peabody, MA.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 1, 2003.
Richard W. Surdi,
Acting Director, Office of Sustainable Fisheries, National Marine Fisheries Service.

[FR Doc. 03-17242 Filed 7-8-03; 8:45 am]

BILLING CODE 3510-22-S